DEPARTMENT OF HEALTH AND HUMAN SERVICES

Health Resources and Services Administration

Advisory Committee on Training in Primary Care Medicine and Dentistry; Notice of Meeting

In accordance with section 10(a)(2) of the Federal Advisory Committee Act (Public Law 92-463), notice is hereby given of the following meeting:

Name: Advisory Committee on Training in Primary Care Medicine and Dentistry.

Date and Time: September 28, 2006, 8:30 a.m.-5 p.m. and September 29, 2006, 8 a.m.-3 p.m.

Place: Hilton Hotel, 620 Perry Parkway, Gaithersburg, Maryland 20877.

Status: The meeting will be open to the public.

Purpose: The Advisory Committee provides advice and recommendations on a broad range of issues dealing with programs and activities authorized under section 747 of the Public Health Service Act as amended by The Health Professions Education Partnership Act of 1998, Public Law 105-392. At this meeting the Advisory Committee will work on its sixth report which will be submitted to Congress and to the Secretary of the Department of Health and Human Services. The report will focus on the role of Title VII, section 747 grant programs in preparing primary care practitioners to care for underserved high-risk groups and vulnerable populations.

Agenda: The meeting on Thursday, September 28, will begin with opening comments from the Chair of the Advisory Committee and introductory remarks from senior management of the Health Resources and Services Administration. A plenary session will follow in which there will be a brief review of six papers commissioned for the Advisory Committee's sixth report. The Advisory Committee will develop a definition of “vulnerability” for the report. In both small groups and in the plenary session, the Advisory Committee will determine recommendations for the report. There will be an annual election for chair and two vice chairs. An opportunity will be provided for public comment.

On Friday, September 29, the Advisory Committee will discuss in the plenary session how the commissioned papers will be used in the sixth report, determine an initial outline for the report, and discuss how grantee data will be incorporated. Small groups will draft a report abstract, expand the report's outline, and determine commentary to accompany grantee data. Grantee anecdotal information will also be considered for the report. The Advisory Committee will plan next steps in the report preparation process. An opportunity will be provided for public comment.

For Further Information Contact: Anyone interested in obtaining a roster of members or other relevant information should write or contact Jerilyn K. Glass, M.D., Ph.D., Division of Medicine and Dentistry, Bureau of Health Professions, Health Resources and Services Administration, Room 9A-27, Parklawn Building, 5600 Fishers Lane, Rockville, Maryland 20857, Telephone (301) 443-6785. The Web address for information on the Advisory Committee is http://bhpr.hrsa.gov/medicine-dentistry/actpcmd.

Dated: August 21, 2006.
Cheryl R. Dammons,
Director, Division of Policy Review and Coordination.

[FR Doc. E6-14271 Filed 8-28-06; 8:45 am]

BILLING CODE 4165-15-P